FEDERAL COMMUNICATIONS COMMISSION

47 CFR Part 73

[FCC 20-58; FRS 17002]

Media Bureau Reorganization

AGENCY: Federal Communications Commission.

ACTION: Final rule.

SUMMARY: In this document, the Commission eliminates the Engineering Division of the Media Bureau and folds it into the Bureau's Industry Analysis Division. We take this step to account for changes in the Engineering Division's duties and in the organizational structure of the Commission. Incorporating the work and staff of the Engineering Division into the Industry Analysis Division is meant to ensure that the Bureau's technical expertise is integrated more fully into the Bureau's adjudicatory matters and policy proceedings. The intended effect of this action is to streamline the Media Bureau's operations by simplifying its organizational structure, reduce management redundancies by improving the supervisor-to-employee ratio, and encourage more interaction and collaboration within the Bureau.

DATES: Effective September 18, 2020.

FOR FURTHER INFORMATION CONTACT: Holly Saurer, Holly.Saurer@fcc.gov, Deputy Bureau Chief, Media Bureau, (202) 418-7283.

SUPPLEMENTARY INFORMATION: This is a summary of the Commission's Order, FCC 20-58, adopted and released on April 29, 2020. The full text of this document is available for public inspection online at https://www.fcc.gov/document/fcc-adopts-media-bureau-reorganization. Alternative formats are available for people with disabilities (Braille, large print, electronic files, audio format) by sending an email to fcc504@fcc.gov or calling the Commission's Consumer and Governmental Affairs Bureau at (202) 418-0530 (voice), (202) 418-0432 (TTY).

Synopsis

In this Order, we conclude that it will serve the public interest and improve the Commission's operations to streamline the organization of the Media Bureau. Specifically, we eliminate the Engineering Division and fold the work and staff of the Engineering Division into the Media Bureau's Industry Analysis Division (IAD). We take this action to account for changes in the Engineering Division's duties and in the organizational structure of the Commission. By incorporating the work and staff of the Engineering Division into IAD, we can better ensure that the Bureau's technical expertise is integrated more fully into the Bureau's adjudicatory matters and policy proceedings. We therefore conclude that this organizational change is warranted and amend the Commission's rules accordingly to reflect this new structure.

Background. The current composition of the Engineering Division and the IAD stem back to the creation of the Media Bureau in 2002. The Engineering Division was established to conduct technical reviews of media related matters, including essential work overseeing technical compliance of multichannel video programming distributors, as well as television and radio broadcast licensees, with Commission rules. The IAD was established to conduct and participate in proceedings regarding media ownership and the economic aspects of existing and proposed rules and policies, to review license transfers that implicate significant policy issues, and to develop reports on relevant industry and market data and information.

More specifically, the Engineering Division processed cable industry regulatory filings (such as registrations and their updates, and signal leakage and proof of performance results), Cable Television Relay Service (CARS) applications, and requests for rulings on technical matters. As the industry has transitioned from analog to digital and from paper to electronic filing processes, and as the Commission has engaged in dozens of proceedings to modernize its rules, the Engineering Division's tasks have diminished. For example, many of the tasks that the Engineering Division used to perform, such as monitoring and enforcing proof-of-performance testing requirements and collecting FCC Form 325 (Annual Report of Cable Television Systems), are no longer necessary given updates to our rules. The Division's work is now primarily focused on consulting with other Bureaus and Offices and the Media Bureau's other divisions in all aspects of media-related technical rulemakings and enforcement and providing analysis of the Commission's cable industry data, as well as maintaining the Cable Operations and Licensing System (COALS) database, which includes the CARS licensing process.

Among other things, the IAD collects, compiles, analyzes and develops reports on relevant industry and market data and information, including conducting rulemakings and preparing reports to Congress on the status of competition in the media industry. With the recent creation of the Office of Economics and Analytics (OEA), the IAD's economists and a portion of its responsibilities were relocated to the new OEA.

Discussion. We find that there are notable benefits to bringing the Engineering Division team within the larger IAD. Simplifying the organizational structure of the Bureau will streamline its operations, improve the supervisor-to-employee ratio thereby reducing redundancies in management, and encourage more extensive staff interaction and collaboration. The IAD staff has extensive experience analyzing the media industry and incorporating such analysis into the Bureau's rulemaking and regulation. Therefore, they are well positioned to effectively utilize the technical resources of the Engineering Division. Further, IAD manages the Bureau's collection of data pertaining to media ownership issues. Combining this extensive experience and responsibility for information technology with the Engineering Division's COALS database expertise would be beneficial to the Bureau's management and would coalesce much-needed technical resources. In addition, the mission of both divisions involves providing technical support and subject matter expertise to the Media Bureau's other divisions, as well as consultation and coordination with other Bureaus and Offices related to various policy proceedings, adjudications, and enforcement matters.

For these reasons, we believe that combining the Engineering Division and the IAD will promote more effective use of Commission resources. Accordingly, we find that Engineering Division personnel and responsibilities should be moved into the IAD, and the Engineering Division should be eliminated as a separate Media Bureau division. The key objectives of this organizational change are to more efficiently deploy Commission resources, enhance the Bureau's understanding and analysis of the media industry, and rationalize and modernize our organizational structure. We believe that we can best accomplish these objectives through organizational change. In order to effectuate this change, we modify our rules to account for the reorganization.

The amendments adopted herein pertain to agency organization, procedure, and practice. Consequently, the notice and comment and effective date provisions of the Administrative Procedure Act contained in 5 U.S.C. 553(b) and (d) do not apply.

This document does not contain information collection requirements subject to the Paperwork Reduction Act of 1995 (PRA), Public Law 104-13. In addition, therefore, it does not contain any new or modified information collection burden for small business concerns with fewer than 25 employees, pursuant to the Small Business Paperwork Relief Act of 2002, Public Law 107-198, see 44 U.S.C. 3506(c)(4).

The Commission will not send a copy of this Order pursuant to the Congressional Review Act, see 5 U.S.C. 801(a)(1)(A), because the adopted rules exclusively relate to agency management or personnel.

It is ordered that, pursuant to sections 1, 4, 5(b), 5(c), and 303(r) of the Communications Act of 1934, as amended, 47 U.S.C. 151, 154, 155(b), 155(c), and 303(r) this Order is adopted.

It is further ordered that part 73 of the Commission Rules is amended.

It is further ordered that consistent with the Consolidated Appropriations Act, 2020, this Order will become effective when the appropriate clearance has been obtained and upon the date set forth in the Federal Register publication of this Order.

List of Subjects in 47 CFR Part 73

Reporting and recordkeeping requirements.

Federal Communications Commission.
Cecilia Sigmund,
Federal Register Liaison Officer.

Final Rules

For the reasons discussed in the preamble, the Federal Communications Commission amends 47 CFR part 73 as follows:

PART 73—RADIO BROADCAST SERVICES

1. The authority citation for part 73 continues to read as follows:

Authority: 47 U.S.C. 154, 155, 301, 303, 307, 309, 310, 334, 336, 339.

2. Revise § 73.3617 to read as follows:

§ 73.3617 Information available on the internet.

The Media Bureau and each of its Divisions provide information on the internet regarding rules and policies, pending and completed rulemakings, and pending applications. These sites also include copies of public notices and texts of recent decisions. The Media Bureau's address is http://www.fcc.gov/mb/; the Audio Division's address is http://www.fcc.gov/mb/audio; the Video Division's address is http://www.fcc.gov/mb/video; the Policy Division's address is http://www.fcc.gov/mb/policy; and the Industry Analysis Division's address is http://www.fcc.gov/mb/industry_analysis.

[FR Doc. 2020-18502 Filed 9-17-20; 8:45 am]

BILLING CODE 6712-01-P